DEPARTMENT OF TRANSPORTATION

Office of the Secretary

[Docket No. OST-2012-0073]

Notice of Request for Information Collection Approval

AGENCY: Office of the Secretary, DOT.

ACTION: Notice.

SUMMARY: In accordance with the Paperwork Reduction Act of 1995 (44 U.S.C. 3501 et. seq.), this notice announces that the U.S. Department of Transportation (DOT) has forwarded the Information Collection Request (ICR) abstracted below to the Office of Management and Budget (OMB) for renewal. The ICR describes the nature of the information collection and its expected cost and burden hours. The OMB approved the form in 2009 with its renewal required by September 30, 2012. The Federal Register Notice with a 60-day comment period soliciting comments on the form renewal was published on May 18, 2012, [FR Vol. 77, No. 97, page 29747]. No comments were received.

DATES: Comments on this notice must be received by January 7, 2013: Attention DOT/OST Desk Officer, Office of Information and Regulatory Affairs, Office of Management and Budget, Docket Library, Room 10102, 725 17th Street NW., Washington, DC 20503.

FOR FURTHER INFORMATION CONTACT: Tami Wright, Associate Director, Compliance Operations Division (S-34), Departmental Office of Civil Rights, Office of the Secretary, U.S. Department of Transportation, 1200 New Jersey Avenue SE., Washington, DC 20590, 202-366-9370 or (TTY) 202-366-0663.

SUPPLEMENTARY INFORMATION:

Form Title(s): EEO Counselor Checklist (DTO F 1050-1); ONE DOT Sharing Neutrals Program Mediation Intake (DOT F 1050-2); Agreement to Mediate (DOT F 1050-3); Exit Survey for Mediation Participants (DOT F 1050-4); Agreement to Postpone the Final Interview and to Extend the Counseling Period (DOT F-1050-5); Notice of Right to File a Discrimination Complaint (DOT F 1050-6); Notice of Rights and Responsibilities (DOT F 1050-7); Individual Complaint of Employment Discrimination (DOT F 1050-8); Designation of Representative (DOT F 1050-9); Final Agency Decision Request (DOT F 1050-10); and Waiver of Right to Anonymity (DOT F 1050-11).

OMB Control Number: OMB #2105-0556.

Abstract: DOT will utilize the forms to collect information necessary to process Equal Employment Opportunity (EEO) discrimination complaints filed by individuals who are not Federal employees and are applicants for employment with the Department. These complaints are processed in accordance with the Equal Employment Opportunity Commission's regulations, 29 CFR part 1614, as amended. DOT will use the forms to: (a) request requisite information from the applicant for processing his or her EEO employment discrimination complaint; and (b) obtain information to identify an individual or his or her attorney or other representative, if appropriate. An applicant's filing of an EEO employment complaint is solely voluntary. DOT estimates that it takes an applicant approximately two and one-half hours to complete the forms.

Affected Public: Job applicants filing EEO employment discrimination complaints.

Annual Estimated Burden: 25 hours.

Frequency of Collection: An applicant's filing of an EEO complaint is solely voluntary.

Comments are Invited on: (a) Whether the proposed collection of information is reasonable for the proper performance of the EEO functions of the Department; (b) the accuracy of the Department's estimate of the burden of the proposed information Collection, including the validity of methodology and assumptions used; (c) ways to enhance the quality, utility, and clarity of the information to be collected; and (d) ways to minimize the burden of the collection of information on those who are to respond, including use of appropriate, automated, electronic, mechanical, or other technology. Comments should be addressed to the address in the preamble. All responses to this notice will be summarized and included in the request for Office of Management and Budget approval. All comments will also become a matter of public record.

Issued in Washington, DC, on November 30, 2012.
Claire Barrett,
Chief Privacy & Information Asset Officer, U.S. Department of Transportation.

[FR Doc. 2012-29483 Filed 12-5-12; 8:45 am]

BILLING CODE 4910-9X-P